NUCLEAR REGULATORY COMMISSION

10 CFR Part 72

[NRC-2013-0051]

Shielding and Radiation Protection Review Effort and Licensing Conditions for Dry Storage Applications

AGENCY: Nuclear Regulatory Commission.

ACTION: Draft interim staff guidance; withdrawal.

SUMMARY: The U.S. Nuclear Regulatory Commission (NRC) is announcing the withdrawal of draft Spent Fuel Storage and Transportation Interim Staff Guidance No. 26A (SFST-ISG-26A), Revision 0, “Shielding and Radiation Protection Review Effort and Licensing Parameters for 10 CFR Part 72 Applications.”

DATES: The withdrawal is effective as of March 7, 2014.

ADDRESSES: Please refer to Docket ID NRC-2013-0051 when contacting the NRC about the availability of information regarding this document. You may access publicly-available information related to this document using any of the following methods:

• Federal Rulemaking Web site: Go to http://www.regulations.gov and search for Docket ID NRC-2013-0051. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Draft SFST-ISG-26A, Revision 0 is available electronically under ADAMS Accession No. ML13010A570.

• NRC's PDR: You may examine and purchase copies of public documents at the NRC's PDR, Room O1-F21, One White Flint North, 11555 Rockville Pike, Rockville, Maryland 20852.

FOR FURTHER INFORMATION CONTACT: Mr. Michel Call, Office of Nuclear Material Safety and Safeguards, U.S. Nuclear Regulatory Commission, Washington, DC 20555-0001; telephone: 301-287-9183; email: Michel.Call@nrc.gov.

SUPPLEMENTARY INFORMATION:

I. Background

Draft SFST-ISG-26A proposed guidance for the NRC staff to use when reviewing the shielding and radiation protection portions of applications for certificates of compliance (CoC), specific licenses, and amendments submitted in accordance with part 72 of Title 10 of the Code of Federal Regulations (10 CFR), “Licensing Requirements for the Independent Storage of Spent Nuclear Fuel, High-Level Radioactive Waste, and Reactor-Related Greater Than Class C Waste,” (10 CFR part 72) Subpart L, “Approval of Spent Fuel Storage Casks,” and Subpart B, “License Application, Form, and Contents.” Draft SFST-ISG-26A proposed to revise the shielding and radiation protection review procedures contained in NUREG-1536, Revision 1, “Standard Review Plan for Spent Fuel Dry Storage Systems at a General License Facility,” and NUREG-1567, “Standard Review Plan for Spent Fuel Dry Storage Facilities.”

The staff began writing draft SFST-ISG-26A as a response to an event involving the use of a high dose-rate transfer cask. Its first intent was to provide reviewers guidance on how to review these systems. The scope had been expanded to also provide NRC reviewers with guidance on performing graded reviews based on system dose rates which modify the review “priority” as defined in NUREG-1536. The staff developed this part of the ISG in response to industry comments regarding the amount of details the staff reviewed in response to a 10 CFR part 72 license, certificate or amendment application.

The staff published a notice of opportunity for public comment on draft SFST-ISG-26A in the Federal Register on March 29, 2013 (78 FR19148). The staff received two comments, with each commenter raising a significant number of substantive issues which has caused the staff to reconsider the need for and the clarity of the guidance.

II. Discussion

The staff considered the comments and has decided to defer pursuing action on the draft ISG. Thus, draft SFST-ISG-26A is being withdrawn. From the comments received, the staff concluded that the guidance as written is not clear and would require substantial revision to be well understood as well as meet the needs of the staff. Although the staff still finds that guidance regarding the issues addressed in draft SFST-ISG-26A would be useful, especially in relation to high dose-rate transfer casks, there are recent developments that also touch on some of these issues that the staff finds are appropriate to pursue in lieu of the ISG. This includes the staff's consideration of a petition to make changes to 10 CFR Part 72 (PRM-72-7) and the staff's consideration of an update to NUREG-1745, “Standard Format and Content for Technical Specifications for 10 CFR part 72 Cask Certificates of Compliance.”

The staff finds withdrawing the draft ISG is appropriate considering the initiating event that caused the staff to write draft SFST-ISG-26A has thus far been an isolated event from several years ago, and the staff has not seen any applications for the use of high dose-rate transfer casks since then. However, the staff will continue to monitor for events or actions (particularly those involving transfer casks) that may indicate there is a need for the ISG prior to completion of, or in addition to, the other efforts.

With regard to the review procedure priority levels, the staff currently finds that the generic priority levels in NUREG-1536 sufficiently meet the staff's commitment of ensuring the appropriate level of effort for these reviews. However, the staff will also monitor the use of these procedures to determine any further need for enhancement.

Dated at Rockville, Maryland, this 24th day of February 2014.
For the Nuclear Regulatory Commission.
Mark D. Lombard,
Director, Division of Spent Fuel Storage and Transportation, Office of Nuclear Material Safety and Safeguards.

[FR Doc. 2014-05017 Filed 3-6-14; 8:45 am]

BILLING CODE 7590-01-P